DEPARTMENT OF COMMERCE

International Trade Administration

[A-507-502]

Certain In-Shell (Raw) Pistachios From the Islamic Republic of Iran: Final Results of the Expedited Sunset Review of the Antidumping Duty Order

AGENCY: Enforcement and Compliance, International Trade Administration, Department of Commerce.

DATES: Effective August 5, 2016.

SUMMARY: As a result of this sunset review, the Department of Commerce (the Department) finds that revocation of the antidumping duty order on certain in-shell (raw) pistachios (pistachios) from the Islamic Republic of (Iran) would be likely to lead to continuation or recurrence of dumping at the rates identified in the “Final Results of Review” section of this notice.

FOR FURTHER INFORMATION CONTACT: Jacqueline Arrowsmith or Madeline Heeren, AD/CVD Operations, Offices VII and VI, respectively, Enforcement and Compliance, U.S. Department of Commerce, 14th Street and Constitution Avenue NW., Washington, DC 20230; telephone (202) 482-5255 and (202) 482-9179, respectively.

SUPPLEMENTARY INFORMATION:

Background

The Department published the antidumping duty order on pistachios from Iran on July 17, 1986.¹ On April 1, 2016, pursuant to section 751(c) of the Tariff Act of 1930, as amended (the Act), the Department initiated a sunset review of the antidumping duty order on pistachios from Iran.² On April 11, 2016, and April 13, 2016, the Department received notices of intent to participate from Wonderful Pistachios & Almonds LLC (WP&A) and American Pistachio Growers (APG), respectively (collectively, the Domestic Interested Parties), within the deadline specified in 19 CFR 351.218(d)(1)(i). The Domestic Interested Parties are manufacturers of a domestic like product in the United States and, accordingly, are domestic interested parties pursuant to section 771(9)(C) of the Act.

¹ See Antidumping Duty Order; Certain In-Shell Pistachios from Iran, 51 FR 25922 (July 17, 1986) (Iran Order).

² See Initiation of Five-Year (“Sunset”) Review, 81 FR 18829 (April 1, 2016) (Sunset Initiation).

On April 29, 2016, and May 2, 2016, the Department received an adequate substantive response to the notice of initiation from WP&A and APG, respectively, within the 30-day deadline specified in 19 CFR 351.218(d)(3)(i). The Department did not receive any timely filed responses from the respondent interested parties, i.e., pistachio producers and exporters from Iran. The Department did receive an untimely substantive response from Tehran Negah Nima, trading as Nima Trading Company (Nima). As this response was untimely, the Department rejected the submission.³ On the basis of the notices of intent to participate and adequate substantive responses filed by the Domestic Interested Parties and the inadequate response from any respondent interested party, the Department conducted an expedited sunset review of the order pursuant to section 751(c)(3)(B) of the Act and 19 CFR 351.218(e)(1)(ii)(C).

³ See the memorandum to the file from Madeline Heeren entitled, “Request to Take Action on Certain Barcodes,” dated May 17, 2016 (Rejection Memo); see also letter from the Department to Nima, dated May 17, 2016 (Rejection Letter).

Scope of the Order

The products covered by the order are raw,⁴ in-shell pistachio nuts from which the hulls have been removed, leaving the inner hard shells, and edible meats from Iran. This merchandise is provided for in subheading 0802.51.00.00 of the Harmonized Tariff Schedule of the United States (HTSUS). Although the HTSUS subheadings are provided for convenience and customs purposes, the written description of the scope of this order is dispositive.

⁴ See Certain In-Shell Pistachios From Iran; Clarification of Scope in Antidumping Duty Investigation, 51 FR 23254 (June 26, 1986).

Analysis of Comments Received

The issues discussed in the Decision Memorandum ⁵ are the likelihood of continuation or recurrence of dumping and the magnitude of the margins of dumping likely to prevail if this order was revoked. Parties can find a complete discussion of all issues raised in this review, and the corresponding recommendations, in the Decision Memorandum which is on file electronically via Enforcement and Compliance's Antidumping and Countervailing Duty Centralized Electronic Service System (ACCESS). ACCESS is available to registered users at http://access.trade.gov and is available to all parties in the Central Records Unit in room B8024 of the main Commerce building. In addition, a complete version of the Decision Memorandum can be accessed directly on the Internet at http://trade.gov/enforcement/. The signed Decision Memorandum and electronic versions of the Decision Memorandum are identical in content.

⁵ See Memorandum to Ronald K. Lorentzen, Acting Assistant Secretary for Enforcement and Compliance, from Christian Marsh, Deputy Assistant Secretary for Antidumping and Counter vailing Duty Operations, titled “Issues and Decision Memorandum for the Expedited Sunset Review of the Antidumping Duty Order on Certain In-Shell (Raw) Pistachios from the Islamic Republic of Iran; Final Results,” dated concurrently with this notice (Decision Memorandum).

Final Results of Review

Pursuant to sections 752(c)(1) and (3) of the Act, we determine that revocation of the antidumping duty order of pistachios from Iran would be likely to lead to continuation or recurrence of dumping at weighted average margins up to the following:

Exporter/producer | Margin (percent)
Rafsanjan Pistachios Cooperative | 241.14
Tehran Negah Nima Trading Company, Inc./Maghsoudi Farms | 241.14
Tehran Negah Nima Trading Company, Inc./Razi Domghan Agricultural and Animal Husbandry Company | 241.14
All-Others Rate | 241.14

Administrative Protective Order

This notice also serves as the only reminder to parties subject to administrative protective order (APO) of their responsibility concerning the return or destruction of proprietary information disclosed under APO in accordance with 19 CFR 351.305. Timely notification of the return of destruction of APO materials or conversion to judicial protective order is hereby requested. Failure to comply with the regulations and terms of an APO is a violation which is subject to sanction.

The Department is issuing and publishing these final results and notice in accordance with sections 751(c), 752(c), and 777(i)(1) of the Act and 19 CFR 351.218.

Dated: July 29, 2016.
Ronald K. Lorentzen,
Acting Assistant Secretary for Enforcement and Compliance.

[FR Doc. 2016-18673 Filed 8-4-16; 8:45 am]

BILLING CODE 3510-DS-P